DEPARTMENT OF HEALTH AND HUMAN SERVICES

Centers for Disease Control and Prevention

[30Day-05-04KB]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210 or send an e-mail to omb@cdc.gov. Send written comments to CDC Desk Officer, Human Resources and Housing Branch, New Executive Office Building, Room 10235, Washington, DC 20503 or by fax to (202) 395-6974. Written comments should be received within 30 days of this notice.

Proposed Project:

Evaluation of a Concussion Tool Kit—Heads Up: Concussion in High School Sports—New—National Center for Injury Prevention and Control (NCIPC), Centers for Disease Control and Prevention (CDC).

It is estimated that 300,000 sports-related traumatic brain injuries of mild to moderate severity, most of which can be classified as concussions, occur each year in the United States. While the proportion of these injuries that are repeat occurrences is unknown, there is an increased risk of subsequent concussion among persons who have had at least one previous concussion. Repeated concussions occurring over an extended period can result in cumulative neurological and cognitive problems. Repeated concussions occurring within a short period of time (second impact syndrome) can be catastrophic or fatal.

One of the goals of CDC is to reduce negative outcomes resulting from sports-related concussions and reduce the occurrence of second-impact syndrome in high schools. To help achieve these goals, CDC's National Center for Injury Prevention and Control (NCIPC) will undertake a communication and education effort in the form of a concussion tool kit aimed at high school coaches. The objectives of the tool kit include providing coaches with materials and tools that will help them to: (1) Raise their own awareness about sports-related concussions; (2) prevent sports-related concussions; (3) take appropriate action when injury occurs; and (4) educate athletes, parents, and school officials about sports-related concussions. After the tool kit has been reviewed, NCIPC will conduct a telephone survey to assess short-term impact of the communication and educational initiative directed at high school athletic coaches about sports-related concussions.

Specifically, the survey will assess knowledge and awareness about sports-related concussions, appropriateness of content, perceived value, intentions to use, and actual use of tool kit materials. Survey results will be used to identify revisions and improvements that need to be made to the tool kit materials before they are promoted and distributed nationally in 2005. This one-time survey will be conducted over a two-to three-month period. There are no costs to the respondents except for their time to participate. The annualized burden is estimated to be 301 hours.

Form name | Number of respondents | Number of responses per respondent | Average burden per respondent (in hours)
Screener Form | 2,800 | 1 | 2/60
Survey Instrument | 1,245 | 1 | 10/60

Dated: November 26, 2004.
B. Kathy Skipper,
Acting Director, Management Analysis and Services Office, Centers for Disease Control and Prevention.

[FR Doc. 04-26656 Filed 12-2-04; 8:45 am]

BILLING CODE 4163-18-P